DEPARTMENT OF THE TREASURY

Submission for OMB Review; Comment Request

May 6, 2014.

The Department of the Treasury is planning to submit the following information collection request to the Office of Management and Budget (OMB) for review and clearance in accordance with the Paperwork Reduction Act of 1995, Public Law 104-13.

DATES: Comments should be received on or before July 11, 2014 to be assured of consideration.

ADDRESSES: Send comments regarding the burden estimate, or any other aspect of the information collection, including suggestion for reducing the burden, to Robert Dahl, Departmental Clearance Officer, U.S. Department of the Treasury, Suite 8111, 1750 Pennsylvania Ave. NW., Washington, DC 20006. (202) 622-3119.

FOR FURTHER INFORMATION CONTACT: Copies of the submission(s) may be obtained by calling (202) 622-3119, email at PRA@treasury.gov, or the entire information collection request maybe found at www.reginfo.gov.

Small Business Lending Fund (SBLF)

OMB Number: 1505-0246.

Type of Review: Reinstatement.

Title: Small Business Lending Fund—Lending Survey.

Abstract: Treasury plans to collect information from SBLF participants about the small business lending supported by SBLF's investment. SBLF will request information from participants on changes in small business lending policies, dollar amounts and number of loans extended across different categories of small business lending, actions taken using SBLF funds, and outreach undertaken to expand lending to small businesses owned by women, minorities and veterans, over the past year.

Annual Responses: 332.

Burden Hours: 2,656.

Robert Dahl,
Treasury PRA Clearance Officer.

[FR Doc. 2014-10751 Filed 5-9-14; 8:45 am]

BILLING CODE 4810-25-P